DEPARTMENT OF ENERGY

Federal Energy Regulatory Commission

Combined Notice of Filings # 1

August 28, 2007.

Take notice that the Commission received the following electric corporate filings:

Docket Numbers: EC07-116-001.

Applicants: KGen Acquisition I, LLC; KGEN Power Corporation; KGen Partners, LLC; LSP Energy Limited Partnership; La Paloma Generating Company, LLC.

Description: KGen Power Corp et al. submit an amendment to the 7/13/07 filing of a joint application for authorization and the acquisition of La Paloma Generating Co, LLC.

Filed Date: 08/21/2007.

Accession Number: 20070824-0119.

Comment Date: 5 p.m. Eastern Time on Tuesday, September 4, 2007.

Take notice that the Commission received the following electric rate filings:

Docket Numbers: ER07-940-001.

Applicants: Midwest Independent Transmission System Operator, Inc.; PJM Interconnection, LLC.

Description: Midwest Independent System Operator Inc and submit PJM Interconnection LLC submit its proposed revisions to section 4 of the Congestion Management Process of their Joint Operating Agreement.

Filed Date: 08/23/2007.

Accession Number: 20070827-0031.

Comment Date: 5 p.m. Eastern Time on Thursday, September 13, 2007.

Docket Numbers: ER07-1099-001.

Applicants: Southwest Power Pool, Inc.

Description: Southwest Power Pool Inc submits as Exhibit I a clean copy of the 6/29/07 filing with the proper designations.

Filed Date: 08/23/2007.

Accession Number: 20070827-0028.

Comment Date: 5 p.m. Eastern Time on Thursday, September 13, 2007.

Docket Numbers: ER07-1300-000.

Applicants: Reliant Energy Solutions Northeast, LLC.

Description: Reliant Energy Solutions Northeast LLC submits an application for an order accepting rates for filing and for certain waivers and blanket approvals.

Filed Date: 08/23/2007.

Accession Number: 20070827-0029.

Comment Date: 5 p.m. Eastern Time on Thursday, September 13, 2007.

Docket Numbers: ER07-1301-000.

Applicants: Elwood Energy, LLC.

Description: Elwood Energy LLC submits its Rate Schedule FERC 2, its revenue requirement for Reactive Supply and Voltage Control from Generation Sources Service supplied by its generation facilities.

Filed Date: 08/24/2007.

Accession Number: 20070827-0030.

Comment Date: 5 p.m. Eastern Time on Friday, September 14, 2007.

Take notice that the Commission received the following electric reliability filings:

Docket Numbers: RR07-15-000.

Applicants: North American Electric Reliability Corp.

Description: Request of The North American Electric Reliability Corporation for Approval of Amended and Restated Bylaws Of Northeast Power Coordinating Council, Inc., and for substitution of Northeast Power Coordinating Council, Inc. as a regional entity.

Filed Date: 08/21/2007.

Accession Number: 20070821-5032.

Comment Date: 5 p.m. Eastern Time on Thursday, September 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-17443 Filed 9-4-07; 8:45 am]

BILLING CODE 6717-01-P